DEPARTMENT OF HOMELAND SECURITY

U.S. Customs and Border Protection

[Docket No. USCBP-2024-0027]

Commercial Customs Operations Advisory Committee

AGENCY: U.S. Customs and Border Protection (CBP), Department of Homeland Security (DHS).

ACTION: Committee management; notice of open Federal Advisory Committee meeting.

SUMMARY: The Commercial Customs Operations Advisory Committee (COAC) will hold its quarterly meeting on Wednesday, December 11, 2024, in Washington, DC. The meeting will be open to the public via webinar only.

DATES: The COAC will meet on Wednesday, December 11, 2024, from 1:00 p.m. to 5:00 p.m. Eastern Standard Time (EST). Please note the meeting may close early if the committee has completed its business. Comments must be submitted in writing no later than December 6, 2024.

ADDRESSES: The meeting will be open to the public via webinar only. The webinar link will be posted by 5:00 p.m. EST on November 29, 2024, at https://www.cbp.gov/trade/stakeholder-engagement/coac/coac-public-meetings. For information or to request special assistance for the meeting, contact Mrs. Latoria Martin, Office of Trade Relations, U.S. Customs and Border Protection, at (202) 344-1440, as soon as possible.

Comments may be submitted by one of the following methods:

• Federal eRulemaking Portal: http://www.regulations.gov. Search for Docket Number USCBP-2024-0027. To submit a comment, click the “Comment” button located on the top-left hand side of the docket page.

• Email: tradeevents@cbp.dhs.gov. Include Docket Number USCBP-2024-0027 in the subject line of the message.

Comments must be submitted in writing no later than December 6, 2024, and must be identified by Docket No. USCBP-2024-0027. All submissions received must also include the words “Department of Homeland Security.” All comments received will be posted without change to https://www.cbp.gov/trade/stakeholder-engagement/coac/coac-public-meetings and www.regulations.gov. Therefore, please refrain from including any personal information you do not wish to be posted. You may wish to view the Privacy and Security Notice, which is available via a link on www.regulations.gov.

FOR FURTHER INFORMATION CONTACT: Mrs. Latoria Martin, Office of Trade Relations, U.S. Customs and Border Protection, 1300 Pennsylvania Avenue NW, Room 3.5A, Washington, DC 20229, (202) 344-1440; or Ms. Felicia M. Pullam, Designated Federal Officer, at (202) 344-1440 or via email at tradeevents@cbp.dhs.gov.

SUPPLEMENTARY INFORMATION: Notice of this meeting is given under the authority of the Federal Advisory Committee Act, Title 5 U.S.C., ch. 10. The COAC provides advice to the Secretary of the Department of Homeland Security, the Secretary of the Department of the Treasury, and the Commissioner of U.S. Customs and Border Protection (CBP) on matters pertaining to the commercial operations of CBP and related functions within the Department of Homeland Security and the Department of the Treasury.

The COAC is committed to ensuring all participants have equal access regardless of disability status. If you require a reasonable accommodation due to a disability to fully participate, please contact Mrs. Latoria Martin at (202) 344-1440 as soon as possible.

Please feel free to share this information with other interested members of your organization or association.

To facilitate public participation, we are inviting public comment on the issues the committee will consider prior to the formulation of recommendations as listed in the AGENDA section below.

There will be a public comment period after each subcommittee update during the meeting on December 11, 2024. During the meeting, comments may be submitted via the trade events mailbox at tradeevents@cbp.dhs.gov or through the Microsoft Teams chat feature. Please note the public comment period for speakers may end before the time indicated on the schedule that is posted on the CBP web page: http://www.cbp.gov/trade/stakeholder-engagement/coac.

Agenda

The COAC will hear from the current subcommittees on the topics listed below:

1. The Intelligent Enforcement Subcommittee will provide updates on the work completed and topics discussed in its working groups as well as present proposed recommendations for the COAC's consideration. The Antidumping/Countervailing Duty (AD/CVD) Working Group will provide updates regarding its work and discussions on importer compliance with AD/CVD and other trade remedy measures and requirements. The Intellectual Property Rights (IPR) Process Modernization Working Group anticipates providing updates concerning progress associated with its proposed recommendations specific to IPR enforcement and facilitation. The Forced Labor Working Group (FLWG) will provide updates on continued discussions regarding trade outreach, clarification of requirements, and proposed recommendations. The FLWG reports that it will continue to provide CBP with input as CBP rolls out a case management portal. The Bond Working Group remained on hiatus status since the last public meeting.

2. The Next Generation Facilitation Subcommittee will provide updates on all its existing working groups. The Automated Commercial Environment (ACE) 2.0 Working Group was focused on completing discussions on the Concept of Operations document regarding scenarios for Electronic Export Manifests (EEM) and a portal for infrequent importers, along with the status of previous recommendations proposed earlier this term. The Broker Modernization Working Group (BMWG) remains dedicated to the enhancement of the end user experience and improving the administration of the Customs Broker Licensing Exam (CBLE). This quarter, the Modernized Entry Processes Working Group (MEPWG) continues its National Customs Automation Program (NCAP) discussions and will provide updates on its efforts concerning the reconciliation test. The remaining working group, the Customs Interagency Industry Working Group (CIIWG), was not active this past quarter but will provide a report on topics that the working group will focus on in the coming quarter.

3. The Secure Trade Lanes Subcommittee will provide updates on its seven active working groups: the Centers Working Group, the Cross-Border Recognition Working Group, the De Minimis Working Group, the Export Modernization Working Group, the FTZ/Warehouse Working Group, the Pipeline Working Group, and the Trade Partnership and Engagement Working Group. The Centers Working Group consolidated its review of the Centers' communications functions into the Structure Sub-Working Group and the Operations Sub-Working Group. The Centers Working Group as a whole, through these two sub-working groups, continues to evaluate the structure and operations of the Centers to enhance their effectiveness, increase transparency, and build stronger communities within CBP and with the Trade. The Cross-Border Recognition Working Group is evaluating whether all deliverables outlined in the Statement of Work have been achieved to determine next steps. CBP has formed a Task Force to assist the De Minimis Working Group regarding the timeframe for submitting de minimis shipments. The De Minimis Working Group, via the Task Force, intends to present proposed recommendations at the December quarterly COAC meeting. The Export Modernization Working Group has continued its work on the Electronic Export Manifest Pilot Program and the effects of progressive filing by the shipper to continuously update export information on successive dates, rather than on a specific date. The Export Modernization Working Group is also working on previous proposed recommendations to determine if new proposed recommendations need to be made and is reviewing the status of proposed recommendations that have not been finalized. The Drawback Task Force, within the Export Modernization Working Group, has continued discussions around COAC-approved recommendations that are in the process of being implemented from last quarter. They are also conducting an analysis of program statistics in the areas of streamlining drawback ruling processes, reviewing compliance issues, and examining areas to maximize resources. The FTZ/Warehouse Working Group continues to review 19 CFR part 146, explore areas in which the Customs-Trade Partnership Against Terrorism (CTPAT) program can be expanded, and consider how to modernize ACE functionality for Foreign Trade Zones (FTZs), and it anticipates presenting proposed recommendations for the COAC's consideration at the December public meeting. The Pipeline Working Group has continued discussing the most appropriate commodities for and potential users of Distributed Ledger Technology to engage in the contemplated pilot for tracking pipeline-borne goods. The Global Interoperability Standard (GIS) Information Collection Federal Register Notice (FRN) was published on September 3, 2024 (89 FR 71381), and comments were accepted through November 4, 2024. The Pipeline Working Group has no proposed recommendations for this quarter.

Meeting materials will be available on December 2, 2024, at: http://www.cbp.gov/trade/stakeholder-engagement/coac/coac-public-meetings.

Felicia M. Pullam,
Executive Director, Office of Trade Relations.

[FR Doc. 2024-27805 Filed 11-26-24; 8:45 am]

BILLING CODE 9111-14-P